DEPARTMENT OF ENERGY

Federal Energy Regulatory Commission

[Docket No. RP97-255-005]

TransColorado Gas Transmission Company; Notice of Tariff Filing

February 8, 2000.

Take notice that on February 2, 2000, TransColorado Gas Transmission Company (TransColorado) tendered for filing as part of its FERC Gas Tariff, Original Volume No. 1, Fifth Revised Sheet No. 21, to be effective February 1, 2000.

TransColorado states that the filing is being made in compliance with the Commission's letter order issued March 20, 1997, in Docket No. RP97-255-000.

The tendered tariff sheet revised TransColorado's Tariff to implement a new negotiated-rate transportation service agreement between TransColorado and CIG Resources Company, that is also being filed, to be effective February 1, 2000.

TransColorado requested waiver of 18 CFR § 154.207 so that the tendered tariff sheet may become effective February 1, 2000.

TransColorado states that a copy of this filing has been served upon all parties to this proceeding, TransColorado's customers, the Colorado Public Utilities Commission and New Mexico Public Regulatory Commission.

Any person desiring to protest this filing should file a protest with the Federal Energy Regulatory Commission, 8888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-3311 Filed 2-11-00; 8:45 am]

BILLING CODE 6717-01-M